DEPARTMENT OF AGRICULTURE

Submission for OMB Review; Comment Request

March 21, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by April 26, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Feral Swine Survey.

OMB Control Number: 0535-0256.

Summary of Collection: Authority to collect these data is authorized under 7 U.S.C. 2204(a). Individually identifiable data collected under this authority are governed by Section 1770 of the Food Security Act of 1985, 7 U.S.C. 2276. On February 3, 1999, Executive Order 13112 was signed by President Clinton establishing the National Invasive Species Council. The Executive Order requires that a Council of Departments dealing with invasive species be created. Currently there are 13 Departments and Agencies on the Council. A benchmark survey was conducted in 2015 in 11 States (Alabama, Arkansas, California, Florida, Georgia, Louisiana, North Carolina, Mississippi, Missouri, South Carolina, and Texas). Target population within these states consisted of farm operations who have historically produced one or more of the following crops: Corn, soybeans, wheat, rice, peanuts or sorghum (Texas only).

The focus for the 2019 survey will involve 12 states (Alabama, Arkansas, California, Florida, Georgia, Louisiana, Mississippi, Missouri, North Carolina, Oklahoma, South Carolina, and Texas). The target population will be producers of hay, tree nuts (pecans), melons (cantaloupe, honeydew, or watermelon), sugarcane, sweet potatoes, or cotton, and in CA the focus will be on producers of hay, tree nuts (almonds), grapes, sod, carrots, lettuce, or strawberries.

Need and Use of the Information: The purpose of the proposed survey is to develop national and State estimates of the damage feral swine cause to agricultural operations, as well as costs of controls and benefits from feral swine hunting. These estimates will be used by APHIS to determine which areas have the greatest amount of damage and where to focus efforts at dealing with the feral swine problem.

Description of Respondents: Farms.

Number of Respondents: 27,900.

Frequency of Responses: Reporting: Annually.

Total Burden Hours: 8,887.

Kimble Brown,
Departmental Information Collection Clearance Officer.

[FR Doc. 2019-05796 Filed 3-26-19; 8:45 am]

BILLING CODE 3410-20-P